DEPARTMENT OF DEFENSE

Department of the Navy

Notice of Public Hearings for the Draft Environmental Impact Statement for the Silver Strand Training Complex, San Diego, CA; Correction

AGENCY: Department of Navy, DoD.

ACTION: Notice; correction.

SUMMARY: The Department of the Navy published a document in the Federal Register (75 FR 4537) of January 28, 2010, concerning public hearings on a Draft Environmental Impact Statement for the Silver Strand Training Complex, San Diego, CA. The document contained incorrect dates.

FOR FURTHER INFORMATION CONTACT: Naval Facilities Engineering Command Southwest, Attention: Mr. Kent Randall, SSTC EIS Project Manager, 1220 Pacific Highway, Building 1, 5th Floor, San Diego, CA, 92132; or http://www.silverstrandtrainingcomplexeis.com.

Correction

In the Federal Register (75 FR 4537) of January 28, 2010, on page 4537, in the third column, correct Dates and Addresses caption to read:

Dates and Addresses: Two public hearings will be held in San Diego County, CA to receive oral and written comments on the DEIS. All meetings will start with an open house session from 4 p.m. to 6 p.m., followed by a presentation and formal public comment period from 6 p.m. to 7:30 p.m. Public hearings will be held on the following dates and at the following locations:

1. Tuesday, February 23, 2010, at the Imperial Beach City Hall Community Room, 825 Imperial Beach Boulevard, Imperial Beach, CA; and

2. Wednesday, February 24, 2010, at the Coronado Community Center, Nautilus Banquet Room, 1845 Strand Way, Coronado, CA.

Dated: February 5, 2010.
A.M. Vallandingam
Lieutenant Commander, Office of the Judge Advocate General, U.S. Navy, Federal Register Liaison Officer.

[FR Doc. 2010-3376 Filed 2-19-10; 8:45 am]

BILLING CODE 3810-FF-P